Title 3—

The President

Executive Order 15323 of December 11, 2009

Half-Day Closing of Executive Departments and Agencies on Thursday, December 24, 2009

By the authority vested in me as President by the Constitution and the laws of the United States of America, it is hereby ordered as follows:

Section 1. All executive branch departments and agencies of the Federal Government shall be closed and their employees excused from duty for the last half of the scheduled workday on Thursday, December 24, 2009, the day before Christmas Day, except as provided in section 2 of this order.

Sec. 2. The heads of executive branch departments and agencies may determine that certain offices and installations of their organizations, or parts thereof, must remain open and that certain employees must remain on duty for the full scheduled workday on December 24, 2009, for reasons of national security, defense, or other public need.

Sec. 3. Thursday, December 24, 2009, shall be considered as falling within the scope of Executive Order 11582 of February 11, 1971, and of 5 U.S.C. 5546 and 6103(b) and other similar statutes insofar as they relate to the pay and leave of employees of the United States.

Sec. 4. This order is not intended to, and does not, create any right or benefit, substantive or procedural, enforceable at law or in equity by any party against the United States, its departments, agencies, or entities, its officers, employees, or agents, or any other person.

THE WHITE HOUSE,

December 11, 2009.

[FR Doc. E9-30020

Filed 12-15-09; 8:45 am]

Billing code 3195-W0-P